ENVIRONMENTAL PROTECTION AGENCY

[EPA-HQ-OPP-2014-0125; FRL-10014-06]

Pesticide Reregistration Performance Measures and Goals; Annual Progress Report; Notice of Availability

AGENCY: Environmental Protection Agency (EPA).

ACTION: Notice.

SUMMARY: This notice announces the availability of EPA's progress report in meeting its performance measures and goals for pesticide reregistration during fiscal year 2018. This progress report also presents the total number of products registered under the “fast-track” provisions of the Federal Insecticide Fungicide and Rodenticide Act (FIFRA).

DATES: Submit comments on or before December 28, 2020.

ADDRESSES: Submit your comments, identified by docket identification (ID) number EPA-HQ-OPP-2014-0125, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW, Washington, DC 20460-0001.

• Hand Delivery: To make special arrangements for hand delivery or delivery of boxed information, please follow the instructions at https://www.epa.gov/dockets/where-send-comments-epa-dockets.

Due to the public health concerns related to COVID-19, the EPA Docket Center (EPA/DC) and Reading Room is closed to visitors with limited exceptions. The staff continues to provide remote customer service via email, phone, and webform. For the latest status information on EPA/DC services and docket access, visit https://www.epa.gov/dockets.

FOR FURTHER INFORMATION CONTACT: Ramé Cromwell, Antimicrobials Division (7510P), Office of Pesticide Programs, Environmental Protection Agency, 1200 Pennsylvania Ave. NW, Washington, DC 20460-0001; telephone number: (703) 308-9068; email address: cromwell.rame@epa.gov.

SUPPLEMENTARY INFORMATION:

I. Does this action apply to me?

This is directed to the public in general and may be of interest to a wide range of stakeholders including environmental, farm worker, and agricultural advocates; the chemical industry; pesticide users; and members of the public interested in the integration of tolerance reassessment with the reregistration process, and the status of various regulatory activities associated with reregistration and tolerances reassessment. Given the broad interest, the Agency has not attempted to identify all the specific entities that may be interested in this action.

II. What action is the Agency taking?

This notice announces the availability of EPA's progress reports in meeting its performance measures and goals for pesticide reregistration during fiscal year 2018.

The FIFRA, 7 U.S.C. 136 et seq., requires EPA to publish information about EPA's annual achievements in meeting its performance measures and goals for pesticide reregistration. The report for fiscal year 2018 discusses the completion of tolerance reassessment and describes the status of various regulatory activities associated with reregistration. The 2018 report also provides the total number of products reregistered and products registered under the “fast-track” provisions of FIFRA.

III. How can I get a copy of the report?

1. Docket. The 2018 report is available at http://www.regulations.gov, under docket ID number EPA-HQ-OPP-2014-0125.

2. EPA Website. The 2018 report is also available on EPA's website at https://www.epa.gov/pesticide-reevaluation/reregistration-and-other-review-programs-predating-pesticide-registration.

IV. Can I comment on this report?

EPA welcomes input from stakeholders and the general public. Any written comments received will be taken into consideration in the event that EPA determines that further action is warranted. EPA does not expect this report to lead to any particular action, and therefore is not seeking particular public comment.

V. What should I consider as I prepare my comments for EPA?

1. Submitting CBI. Do not submit this information to EPA through regulations.gov or email. Clearly mark the part or all of the information that you claim to be CBI. For CBI information in a disk or CD-ROM that you email to EPA, mark the outside of the disk or CD-ROM as CBI then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing your comments, see the commenting tips at https://www.epa.gov/dockets/commenting-epa-dockets#tips.

Authority: 7 U.S.C. 136a-1(l).

Dated: October 20, 2020.
Alexandra Dapolito Dunn,
Assistant Administrator, Office of Chemical Safety and Pollution Prevention.

[FR Doc. 2020-23875 Filed 10-27-20; 8:45 am]

BILLING CODE 6560-50-P